DEPARTMENT OF TRANSPORTATION

National Highway Traffic Safety Administration

[Docket No. NHTSA-2000-6941]

Notice of Receipt of Petition for Decision That Nonconforming 1998 Jeep Wrangler Multi-Purpose Passenger Vehicles Are Eligible for Importation

AGENCY: National Highway Traffic Safety Administration, DOT.

ACTION: Notice of receipt of petition for decision that nonconforming 1998 Jeep Wrangler multi-purpose passenger vehicles (MPVs) are eligible for importation.

SUMMARY: This notice announces receipt by the National Highway Traffic Safety Administration (NHTSA) of a petition for a decision that a 1998 Jeep Wrangler manufactured for the European and other foreign markets that was not originally manufactured to comply with all applicable Federal motor vehicle safety standards is eligible for importation into the United States because (1) it is substantially similar to a vehicle that was originally manufactured for sale in the United States and that was certified by its manufacturer as complying with the safety standards, and (2) it is capable of being readily altered to conform to the standards.

DATES: The closing date for comments on the petition is March 23, 2000.

ADDRESSES: Comments should refer to the docket number and notice number, and be submitted to: Docket Management, Room PL-401, 400 Seventh St., SW, Washington, DC 20590. [Docket hours are from 9 am to 5 pm].

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Wallace Environmental Testing Laboratories, Inc., of Houston, Texas (“Wallace”) (Registered Importer 90-005) has petitioned NHTSA to decide whether 1998 Jeep Wrangler MPVs manufactured for the European and other foreign markets are eligible for importation into the United States. The vehicle which Wallace believes is substantially similar is the 1998 Jeep Wrangler that was manufactured for sale in the United States and certified by its manufacturer, Chrysler Corporation, as conforming to all applicable Federal motor vehicle safety standards.

The petitioner claims that it carefully compared the non-U.S. certified 1998 Jeep Wrangler to its U.S. certified counterpart, and found the two vehicles to be substantially similar with respect to compliance with most Federal motor vehicle safety standards.

Wallace submitted information with its petition intended to demonstrate that the non-U.S. certified 1998 Jeep Wrangler, as originally manufactured, conforms to many Federal motor vehicle safety standards in the same manner as its U.S. certified counterpart, or is capable of being readily altered to conform to those standards.

Specifically, the petitioner claims that the non-U.S. certified 1998 Jeep Wrangler is identical to its U.S. certified counterpart with respect to compliance with Standard Nos. 102 Transmission Shift Lever Sequence . . . ., 103 Defrosting and Defogging Systems, 104 Windshield Wiping and Washing Systems, 105 Hydraulic Brake Systems, 106 Brake Hoses, 113 Hood Latch Systems, 116 Brake Fluid, 119 New Pneumatic Tires, 124 Accelerator Control Systems, 201 Occupant Protection in Interior Impact, 202 Head Restraints, 204 Steering Control Rearward Displacement, 205 Glazing Materials, 206 Door Locks and Door Retention Components, 207 Seating Systems, 209 Seat Belt Assemblies, 210 Seat Belt Assembly Anchorages, 212 Windshield Retention, 214 Side Impact Protection, 216 Roof Crush Resistance, 219 Windshield Zone Intrusion, and 302 Flammability of Interior Materials.

Petitioner also contends that the vehicle is capable of being readily altered to meet the following standards, in the manner indicated:

Standard No. 101 Controls and Displays: inscription of the word “Brake” on the brake failure warning light. Petitioner states that the vehicle conforms to the standard even though it is equipped with an odometer that is calibrated in kilometers, because the odometer is labeled to show that its reading is in kilometers.

Standard No. 108 Lamps, Reflective Devices and Associated Equipment: (a) Replacement of the headlight assemblies with U.S.-model components; (b) replacement of the taillights with units that conform to the standard; (c) installation of sidemarkers that conform to the standard; (d) installation of a high mounted stop lamp.

Standard No. 111 Rearview Mirrors: inscription of the required warning statement on the passenger side rearview mirror.

Standard No. 114 Theft Protection: installation of a warning device that activates whenever the key is left in the ignition and the driver's door is opened.

Standard No. 120 Tire Selection and Rims: installation of a tire information placard.

Standard No. 208 Occupant Crash Protection: (a) installation of a seat belt warning system with a flashing light that displays the appropriate symbol; (b) installation of U.S.-model driver's and passenger's side air bags and knee bolsters if the vehicle is not already so equipped. The petitioner states that the vehicle is equipped with Type 2 seat belts in the front and rear outboard designated seating positions and that there are no center seating positions in the vehicle.

Standard No. 301 Fuel System Integrity: installation of a rollover valve assembly.

Additionally, the petitioner states that a vehicle identification number plate must be affixed to the vehicle to meet the requirements of 49 CFR Part 565.

Interested persons are invited to submit comments on the petition described above. Comments should refer to the docket number and be submitted to: Docket Management, Room PL-401, 400 Seventh St., SW, Washington, DC 20590. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on February 16, 2000.
Marilynne Jacobs,
Director, Office of Vehicle Safety Compliance.

[FR Doc. 00-4095 Filed 2-18-00; 8:45 am]

BILLING CODE 4910-59-P